DEPARTMENT OF TRANSPORTATION

Federal Aviation Administration

Sixth Meeting: RTCA Special Committee 210 Cabin Systems and Equipment

AGENCY: Federal Aviation Administration (FAA), DOT.

ACTION: Notice of RTCA Special Committee 210, Cabin Systems and Equipment.

SUMMARY: The FAA is issuing this notice to advise the public of a meeting of RTCA Special Committee 210, Cabin Systems and Equipment.

DATES: The meeting will be held Apri1 1-3, 2008, from 9-5 p.m.

ADDRESSES: The meeting will be held at RTCA, Inc., 1828 L Street, NW., Suite 805 Washington, DC 20036, Colson Board Room.

FOR FURTHER INFORMATION CONTACT: (1) RTCA Secretariat, 1828 L Street, NW., Suite 805, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 210, Cabin Management Systems meeting. The agenda will include:

• April 1:

• Opening Plenary Session (Welcome/Introductions/Administrative Remarks/Review of Agenda)

• Approval of Summary of the Fifth meeting held January 29-31, 2008, RTCA Paper No. 042-08/SC210-011

• PMC update

• Regulatory Update (Regulatory Agency):

• FAA

• Transport Canada

• EUROCAE/ICAO

• Report from Working Group (WG Chairs):

• Current status (accomplishments since last plenary)

• Objectives for this plenary

• Review of WG Project Schedule

• Report on Preliminary Industry Review Results:

• Summary of complied results

• Overall direction for Committee:

• Organizational Items; leadership, WG structure, etc.

• Review of Committee Project Schedule

• Recess Plenary Meeting

• Break-up for Working Session:

• Working Group 2, Cabin Management Function Classification

• Committee-at-Large, Review/Incorporation of Preliminary Industry Review Results

• Close out of day's activities:

• Items for group discussion/resolution

• Review of tomorrow's acclivities.

• April 2:

• Continue Working Group Session;

• Working Group 2, Cabin Management Function Classification Committee-at-Large, Review of Preliminary Industry Review Results

• Close out of day's activities;

• Items for group discussion/resolution

• Review of tomorrow's activities

• April 3:

• Continue Working Group Session:

• Working Group 2, Cabin Management Function Classification Committee-at-Large, Review of Preliminary Industry Review Results

• Reconvene Plenary Meeting

• Reports from Working Session:

• Current status (accomplishments during plenary)

• Discussion/Resolution of outstanding issues

• Anticipated accomplishments by next plenary and plan to achieve

• Other Committee Business:

• Discussion of document creation and text writing assignments

• Document Structure/Review (Editor & Leadership Team)

• Review of Committee Project Schedule

• Terms and Reference—Review Status

• Assignment of Responsibilities

• Closing Plenary Session (Other Business, Establish Agenda for Next Meeting, Date, and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 29, 2008.
Francisco Estrada C.,
RTCA Advisory Committee.

[FR Doc. 08-954 Filed 3-4-08; 8:45 am]

BILLING CODE 4910-13-M